ENVIRONMENTAL PROTECTION AGENCY

[EPA-HQ-OW-2005-0023; FRL-9961-97-OW]

Proposed Information Collection Request; Comment Request; Clean Water Act Section 404 State-Assumed Programs; EPA ICR No. 0220.13, OMB Control No. 2040-0168

Correction

In notice document 2017-13905, appearing on pages 30861 through 30862, in the issue of Monday, July 3, 2017, make the following correction:

On page 30861, in the second column, in the DATES section, on the second line, “August 2, 2017” should read “September 1, 2017”.

[FR Doc. C1-2017-13905 Filed 8-17-17; 8:45 am]

BILLING CODE 1301-00-D